SECURITIES AND EXCHANGE COMMISSION

[Release No. 34-96454; File No. SR-NYSEAMER-2022-45]

Self-Regulatory Organizations; NYSE American LLC; Notice of Withdrawal of a Proposed Rule Change To Amend the NYSE American Options Fee Schedule Concerning the Options Regulatory Fee

December 6, 2022.

On September 28, 2022, NYSE American LLC (“NYSE American”) filed with the Securities and Exchange Commission (“Commission”), pursuant to Section 19(b)(1) of the Securities Exchange Act of 1934 ¹ and Rule 19b-4 thereunder,² a proposed rule change to amend its Fee Schedule regarding its Options Regulatory Fee. The proposed rule change was immediately effective upon filing with the Commission pursuant to Section 19(b)(3)(A) of the Act.³ The proposed rule change was published for comment in the Federal Register on October 19, 2022.⁴ On November 14, 2022, NYSE American withdrew the proposed rule change (SR-NYSEAMER-2022-45).

¹ 15 U.S.C. 78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release No. 96066 (October 13, 2022), 87 FR 63565.

For the Commission, by the Division of Trading and Markets, pursuant to delegated authority.⁵
⁵ 17 CFR 200.30-3(a)(12).
Sherry R. Haywood,
Assistant Secretary.

[FR Doc. 2022-26867 Filed 12-9-22; 8:45 am]

BILLING CODE 8011-01-P